DEPARTMENT OF LABOR

Employment and Training Administration

[TA-W-57,711]

Baxter; Deerfield, Illinois; Notice of Termination of Investigation

Pursuant to Section 221 of the Trade Act of 1974, as amended, an investigation was initiated on August 11, 2005 in response to a petition filed by company official on behalf of workers of Baxter, Deerfield, Illinois.

The petitioner has requested that the petition be withdrawn. Consequently, the investigation has been terminated.

Signed at Washington, DC, this 20th day of September 2005.
Linda G. Poole,
Certifying Officer, Division of Trade Adjustment Assistance.

[FR Doc. E5-6009 Filed 10-28-05; 8:45 am]

BILLING CODE 4510-30-P